DEPARTMENT OF COMMERCE

National Oceanic and Atmospheric Administration

[RTID 0648-XA463]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will convene a meeting of the Outreach and Communications Advisory Panel via webinar to address upcoming outreach and communications topics.

DATES: The Outreach and Communications Advisory Panel (AP) meeting will be held via webinar on Thursday, October 8, 2020, from 1 p.m. until 5 p.m.

ADDRESSES: The meeting will be held via webinar. The webinar is open to members of the public. Information, including a link to webinar registration and meeting materials will be posted on the Council's website at: https://safmc.net/safmc-meetings/current-advisory-panel-meetings/ as it becomes available.

Council address: South Atlantic Fishery Management Council, 4055 Faber Place Drive, Suite 201, N Charleston, SC 29405.

FOR FURTHER INFORMATION CONTACT: Cameron Rhodes, Outreach Program Coordinator, SAFMC; phone: (843) 725-7577 or toll free: (866) SAFMC-10; fax: (843) 769-4520; email: cameron.rhodes@safmc.net.

SUPPLEMENTARY INFORMATION: The Outreach and Communications AP will meet to discuss the following agenda items:

1. Best Fishing Practices Campaign Update

2. Citizen Science Program updates

3. MyFishCount Project update

4. Commercial Fish Rules Mobile Application update

5. For-Hire Electronic Reporting outreach update

6. Update on the structure of the advisory panel

7. Updates from AP members

8. Other business

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 23, 2020.
Tracey L. Thompson,
Acting Deputy Director, Office of Sustainable Fisheries, National Marine Fisheries Service.

[FR Doc. 2020-21342 Filed 9-25-20; 8:45 am]

BILLING CODE 3510-22-P